LEGAL SERVICES CORPORATION

Sunshine Act Meeting; Sunshine Act Meeting of the Board of Directors Committee on Provision for the Delivery of Legal Services

TIME AND DATE: The Committee on Provision for the Delivery of Legal Services of the Legal Services Corporation Board of Directors will meet on January 26, 2001. The meeting will begin at 9:00 a.m. and continue until the Committee concludes its agenda

LOCATION: Embassy Suites Hotel, 300 Tallapoosa Street, Montgomery, AL.

STATUS OF MEETING: Open.

MATTERS TO BE CONSIDERED: 1. Approval of agenda.

2. Approval of the minutes of the Committee's meeting of November 10, 2000.

3. Panel presentation by Willie Abrams (LSC Program Counsel) and representatives of Legal Services Corporation of Alabama, Legal Services of North-Central Alabama, and Legal Services of Metro Birmingham on the problems and challenges programs face in serving rural southern clients.

4. Panel presentation on Building a State Justice Community in Alabama by Joseph Dailing (Executive Director of Prairie State Legal Services in Illinois and a state planning consultant with LSC), Robert Gross (LSC Senior Program Counsel for State Planning), and representatives of the LSC-funded Alabama programs—Legal Services Corporation of Alabama, Legal Services of North-Central Alabama, and Legal Services of Metro Birmingham.

5. Update on State Planning by Randi Youells and Robert Gross.

6. Update by Randi Youells on recent activities, including Results Project, Performance Measures, CSR Self-Inspection, Technology Initiative Grants, Competition and Grants Management, the Client-Centered Conference, the Leadership and Diversity Project, and the Gender Task Force.

7. Consider and act on other business.

8. Public comment.

CONTACT PERSON FOR INFORMATION: Victor M. Fortuno, Vice President for Legal Affairs, General Counsel & Secretary of the Corporation, at (202) 336-8800.

SPECIAL NEEDS: Upon request, meeting notices will be made available in alternate formats to accommodate visual and hearing impairments. Individuals who have a disability and need an accommodation to attend the meeting may notify Elizabeth S-S Cushing, at (202) 336-8800.

Dated: January 18, 2001.
Victor M. Fortuno.
Vice President for Legal Affairs, General Counsel & Corporate Secretary.

[FR Doc. 01-2007 Filed 1-18-01; 2:50 pm]

BILLING CODE 7050-01-P